DEPARTMENT OF TRANSPORTATION

Federal Aviation Administration

14 CFR Part 39

[Docket No. 2002-NM-49-AD]

RIN 2120-AA64

Airworthiness Directives; Airbus Model A319, A320, and A321 Series Airplanes

Correction

In proposed rule document 03-25978 beginning on page 53947 in the issue of Wednesday, October 15, 2003, make the following correction:

On page 59347, in the third column, in the DATES section, in the second line, “November 14, 2004” should read “November 14, 2003”.

[FR Doc. C3-25978 Filed 10-20-03; 8:45 am]

BILLING CODE 1505-01-D